DEPARTMENT OF COMMERCE

International Trade Administration

[C-489-840]

Common Alloy Aluminum Sheet From the Republic of Türkiye: Preliminary Results of the Countervailing Duty Administrative Review; 2023

AGENCY: Enforcement and Compliance, International Trade Administration, Department of Commerce.

SUMMARY: The U.S. Department of Commerce (Commerce) preliminarily determines that countervailable subsidies were provided to producers and/or exporters of common alloy aluminum sheet (aluminum sheet) from the Republic of Türkiye (Türkiye), during the period of review (POR) January 1, 2023, through December 31, 2023. Interested parties are invited to comment on these preliminary results of review.

DATES: Applicable August 8, 2025.

FOR FURTHER INFORMATION CONTACT: Charles DeFilippo and Jacob Saude, AD/CVD Operations, Office VII, Enforcement and Compliance, International Trade Administration, U.S. Department of Commerce, 1401 Constitution Avenue NW, Washington, DC 20230; telephone: (202) 482-3797 and (202) 482-0981, respectively.

SUPPLEMENTARY INFORMATION:

Background

On June 12, 2024, Commerce published in the Federal Register the initiation notice for this administrative review of the countervailing duty order on aluminum sheet from Türkiye.¹ Commerce selected Assan Aluminyum Sanayi ve Ticaret A.S., Kibar Americas, Inc., and Kibar Dış Ticaret A.S. (collectively, Assan) and Teknik Aluminyum Sanayi A.S. (Teknik) as the mandatory respondents in this administrative review.² On July 22, 2024, Commerce tolled certain deadlines in this administrative proceeding by seven days.³ On December 9, 2024, Commerce tolled certain deadlines by an additional 90 days.⁴ On March 26, 2025, Commerce extended the deadline for these preliminary results to August 5, 2025.⁵

¹ See Initiation of Antidumping and Countervailing Duty Administrative Reviews, 89 FR 49844 (June 12, 2024).

² See Memorandum, “Respondent Selection,” dated August 29, 2024.

³ See Memorandum, “Tolling of Deadlines for Antidumping and Countervailing Duty Proceedings,” dated July 22, 2024.

⁴ See Memorandum, “Tolling of Deadlines for Antidumping and Countervailing Duty Proceedings,” dated December 9, 2024.

⁵ See Memorandum, “Extension of Deadline for Preliminary Results of Countervailing Duty Administrative Review,” dated March 26, 2025.

For a complete description of the events that followed the initiation of this review, see the Preliminary Decision Memorandum.⁶ A list of topics discussed in the Preliminary Decision Memorandum is included as an appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

⁶ See Memorandum, “Decision Memorandum for the Preliminary Results of the Countervailing Duty Administrative Review of Common Alloy Aluminum Sheet from the Republic of Türkiye; 2023,” dated concurrently with, and hereby adopted by, this notice (Preliminary Decision Memorandum).

Scope of the Order ⁷

⁷ See Common Alloy Aluminum Sheet from Bahrain, India, and the Republic of Turkey: Countervailing Duty Orders, 86 FR 22144 (April 27, 2021) (Order).

The merchandise subject to the Order is common alloy aluminum sheet from Türkiye. A complete description of the scope of the Order is provided in the Preliminary Decision Memorandum.

Methodology

Commerce is conducting this administrative review in accordance with section 751(a)(1)(A) of the Tariff Act of 1930, as amended (the Act). For each of the subsidy programs preliminarily found to be countervailable, Commerce preliminarily determines that there is a subsidy, i.e., a financial contribution from an authority that gives rise to a benefit to the recipient, and that the subsidy is specific.⁸ For a full description of the methodology underlying our conclusions, including Commerce's reliance on facts available pursuant to section 776(a) of the Act, see the Preliminary Decision Memorandum.

⁸ See sections 771(5)(B) and (D) of the Act regarding financial contribution; section 771(5)(E) of the Act regarding benefit; and section 771(5A) of the Act regarding specificity.

Preliminary Rate for Non-Selected Companies Under Review

The Act and Commerce's regulations do not directly address the subsidy rate to be applied to companies not selected for individual examination where Commerce limits its examination in an administrative review pursuant to section 777A(e)(2) of the Act. However, Commerce normally determines the rates for non-selected companies in reviews in a manner that is consistent with section 705(c)(5) of the Act, which provides instructions for calculating the all others rate in an investigation. Section 777A(e)(2) of the Act provides that “the individual countervailable subsidy rates determined under subparagraph (A) shall be used to determine the all-others rate under section 705(c)(5) {of the Act}.” Section 705(c)(5)(A) of the Act states that for companies not investigated, in general, we will determine an all-others rate by weight averaging the countervailable subsidy rates established for each of the companies individually investigated, excluding zero and de minimis rates or any rates based solely on the facts available.

Accordingly, to determine the rate for companies not selected for individual examination, Commerce's practice is to weight average the net subsidy rates for the selected mandatory respondents, excluding rates that are zero, de minimis, or based entirely on facts available.⁹ In this review, we preliminarily calculated a de minimis rate for Teknik. Therefore, the only rate that is not zero, de minimis or based entirely on facts otherwise available is the rate calculated for Assan. Therefore, we are preliminarily assigning Assan's rate to the non-selected companies.¹⁰

⁹ See, e.g., Certain Pasta from Italy: Final Results of the 13th (2008) Countervailing Duty Administrative Review, 75 FR 37386, 37387 (June 29, 2010).

¹⁰ See Memorandum, “Calculation of Subsidy Rate for Non-Selected Companies Under Review,” dated concurrently with this memorandum.

Preliminary Results of Review

As a result of this review, we preliminarily determine the net countervailable subsidy rates for the period January 1, 2023, through December 31, 2023, to be:

Company | Subsidy rate (percent)
Assan Aluminyum Sanayi ve Ticaret A.S.¹¹ | 2.21
Teknik Aluminyum Sanayi A.S | * 0.13
Companies Not Selected for Individual Examination ¹² | 2.21
* De minimis.

Disclosure

¹¹ This rate is applicable to Assan and its cross-owned companies Kibar Americas, Inc., and Kibar Dış Ticaret A.S.

¹² The companies for which a review was requested, and which were not selected for individual examination as mandatory respondents or found to be cross-owned with a mandatory respondent, are ASAS Aluminyum Sanayi ve Ticaret A.S and P.M.S. Metal Profil Aluminum Sanayi Ve Ticaret A.S.

Commerce intends to disclose the calculations performed in connection with these preliminary results to interested parties within five days of any public announcement or, if there is no public announcement, within five days of the date of publication of this notice in the Federal Register, in accordance with 19 CFR 351.224(b).

Public Comment

Case briefs or other written comments may be submitted to the Assistant Secretary for Enforcement and Compliance.¹³ Interested parties will be notified of the timeline for the submission of case briefs and written comments at a later date. Rebuttal briefs, limited to issues raised in the case briefs, may be filed not later than five days after the date of filing case briefs.¹⁴ Interested parties who submit case briefs or rebuttal briefs in this proceeding must submit: (1) a table of contents listing each issue; and (2) a table of authorities.¹⁵ All briefs must be filed electronically using ACCESS.¹⁶ An electronically filed document must be received successfully in its entirety in ACCESS by 5:00 p.m. Eastern Time on the established deadline.

¹³ See 19 CFR 351.309(c)(1)(ii); see also 19 CFR 351.303 (for general requirements).

¹⁴ See 19 CFR 351.309(d); see also Administrative Protective Order, Service, and Other Procedures in Antidumping and Countervailing Duty Proceedings, 88 FR 67069, 67077 (September 29, 2023) (APO and Service Procedures).

¹⁵ See 19 CFR 351.309(c)(2) and (d)(2).

¹⁶ See 19 CFR 351.303 (for general requirements).

As provided under 19 CFR 351.309(c)(2) and (d)(2), in prior proceedings we have encouraged interested parties to provide an executive summary of their brief that should be limited to five pages total, including footnotes. In this review, we instead request that parties provide at the beginning of their briefs a public, executive summary for each issue raised in their briefs. Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).¹⁷

¹⁷ See APO and Service Procedures.

Pursuant to 19 CFR 351.310(c), interested parties who wish to request a hearing, limited to issues raised in the case and rebuttal briefs, must submit a written request to the Assistant Secretary for Enforcement and Compliance, U.S. Department of Commerce, within 30 days after the date of publication of this notice. Requests should contain (1) the party's name, address, and telephone number; (2) the number of participants and whether any participant is a foreign national; and (3) a list of the issues to be discussed. If a request for a hearing is made, Commerce intends to hold the hearing at a time and date to be determined. Parties should confirm by telephone the date, time, and location of the hearing two days before the scheduled date of the hearing.

Assessment Rates

Consistent with section 75l(a)(l) of the Act and 19 CFR 35l.212(b)(2), upon issuance of the final results, Commerce will determine, and CBP shall assess, countervailing duties on all appropriate entries covered by this review at the applicable ad valorem assessment rates listed for the corresponding time period (i.e., January 1, 2023, through December 31, 2023). We intend to issue instructions to CBP no earlier than 35 days after the date of publication of the final results of this review in the Federal Register.

If a timely summons is filed at the U.S. Court of International Trade, the assessment instructions will direct CBP not to liquidate relevant entries until the time for parties to file a request for a statutory injection has expired (i.e., within 90 days of publication).

Cash Deposit Requirements

In accordance with section 751(a)(2)(C) of the Act, Commerce also intends upon publication of the final results, to instruct CBP to collect cash deposits of the estimated countervailing duties in the amounts calculated in the final results of this review for the respective companies listed above with regard to shipments of subject merchandise entered, or withdrawn from warehouse, for consumption on or after the date of publication of the final results of this review. If the rate calculated in the final results is zero or de minimis, no cash deposit will be required on shipments of the subject merchandise entered or withdrawn from warehouse, for consumption on or after the date of publication of the final results of this review. For all non-reviewed firms, CBP will continue to collect cash deposits of estimated countervailing duties at the all-others rate (i.e., 3.45 percent).¹⁸ These cash deposit requirements, when imposed, shall remain in effect until further notice.

¹⁸ See Order.

Final Results of Review

Unless the deadline is extended pursuant to section 751(a)(3)(A) of the Act and 19 CFR 351.213(h)(2), Commerce intends to issue the final results of this administrative review, including the results of its analysis of the issues raised by parties in their comments, within 120 days after the date of publication of these preliminary results.

Notification to Interested Parties

We are issuing and publishing these preliminary results in accordance with sections 751(a)(l) and 777(i)(l) of the Act, and 19 CFR 351.221(b)(4).

Dated: August 5, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Rate for Non-Selected Companies

V. Use of Fact Otherwise Available and Application of Adverse Inferences

VI. Subsidies Valuation Information

VII. Benchmarks and Interest Rates

VIII. Analysis of Programs

IX. Recommendation

[FR Doc. 2025-15128 Filed 8-7-25; 8:45 am]

BILLING CODE 3510-DS-P